Proclamation 7736 of November 14, 2003

National Employer Support of the Guard and Reserve Week, 2003

By the President of the United States of America

A Proclamation

From before the American Revolution, to the Civil War, to the wars in Vietnam and the Persian Gulf, our National Guard and Reserve have served our country with distinction. Today, our National Guard and Reserve forces are active on every front in the War on Terror. During National Employer Support of the Guard and Reserve Week, we honor our courageous citizen-soldiers and their employers, whose continued support is vital to the success of our Armed Forces and to the strength of our country.

America's Guard and Reserve personnel are training hard and deploying frequently to meet new challenges worldwide. These brave defenders have performed combat operations in Iraq and Afghanistan. They have provided security at Guantanamo Bay. They have prepared for homeland security missions. Our Nation is blessed and grateful for the service of the brave men and women of the National Guard and Reserve.

By supporting our Guardsmen and Reservists, employers across our Nation also are helping to advance freedom and democracy around the world. At the same time, these employers benefit from the experience and leadership skills these citizen-soldiers bring home. Employer support of our Guard and Reserve in the United States and abroad helps ensure our troops are mission-ready and is a source of pride and assurance for all Americans. This country is grateful to employers and workers for their support of Guard and Reserve members and their families. Because military deployment often disrupts families and businesses, my Administration is working to make deployments more predictable. Together, our National Guard and Reserve forces and their employers are united in purpose and reflect the highest standards of professionalism and honor.

NOW, THEREFORE, I, GEORGE W. BUSH, President of the United States of America, by virtue of the authority vested in me by the Constitution and laws of the United States, do hereby proclaim November 16 through November 22, 2003, as National Employer Support of the Guard and Reserve Week. I encourage all Americans to join me in expressing our heartfelt thanks to the members of our National Guard and Reserve and their civilian employers for their extraordinary sacrifices on behalf of our Nation. I also call on State and local officials, private organizations, businesses, and all military commanders to observe this week with appropriate ceremonies and activities.

IN WITNESS WHEREOF, I have hereunto set my hand this fourteenth day of November, in the year of our Lord two thousand three, and of the Independence of the United States of America the two hundred and twenty-eighth.

B

[FR Doc. 03-29073

Filed 11-18-03; 8:45 am]

Billing code 3195-01-P